DEPARTMENT OF THE INTERIOR

Bureau of Land Management

[AZ-200-1050-ET; AZA-31024]

Cancellation of Proposed Withdrawal; Arizona; Correction

AGENCY: Bureau of Land Management, Interior.

ACTION: Correction.

In FR Doc. 01-3821 published in the Federal Register issue of February 15, 2001, make the following corrections:

1. On page 10511, in the third column, lines 8 to 11 of the SUMMARY paragraph, delete “This notice opens the lands that are not located within the Agua Fria National Monument to surface entry and mining.”

2. On page 10512, in the first column, replace the last two paragraphs (lines 6 through 49 from the top) with “At 9 a.m. on March 19, 2001, the segregative effect for the lands described in the Notice of Proposed Withdrawal in the Federal Register, FR 99-20274, August 6, 1999, will terminate.”

Dated: March 1, 2001.
Michael A. Ferguson,
Deputy State Director, Resources Division.

[FR Doc. 01-6838 Filed 3-16-01; 8:45 am]

BILLING CODE 3410-32-P